DEPARTMENT OF AGRICULTURE

Natural Resources Conservation Service

[Docket No. NRCS-2011-0015]

Intention To Revise a Currently Approved Information Collection

AGENCY: Natural Resources Conservation Service (NRCS), United States Department of Agriculture (USDA).

ACTION: Notice of re-opening of public comment period.

SUMMARY: On December 7, 2010, NRCS published in the Federal Register a Notice and request for comments to a currently approved information collection package with a public comment period closing on January 6, 2011. The Notice announced NRCS' intention to revise a currently approved information collection, Long-Term Contracting, to clarify for the public information that is no longer included in the collection. NRCS is hereby re-opening the public comment period for the Notice.

DATES: Comments to the Notice published in the Federal Register on December 7, 2010 (75 FR 75959) must be received on or before August 9, 2011

ADDRESSES: You may send comments using any of the following methods:

• Government-wide rulemaking Web site: Go to http://www.regulations.gov and follow the instructions for sending comments electronically.

• Mail: Paperwork Reduction Act Comments, NRCS, P.O. Box 2890, Washington, DC 20013.

FOR FURTHER INFORMATION CONTACT: Phyllis Watkins, Department of Agriculture, Natural Resources Conservation Service, Acting Forms Manager, 1400 Independence Avenue, SW., Room 4235 South Building, Washington, DC 20250; Telephone: (202) 720-3770.

Persons with disabilities who require alternative means for communication (Braille, large print, audio tape, etc.) should contact the USDA Target Center at: (202) 720-2600 (voice and TDD).

SUPPLEMENTARY INFORMATION: On December 7, 2010, NRCS published in the Federal Register a Notice and request for comments to a currently approved information collection package for Long-Term Contracting. The Notice clarified for the public information that is no longer included in the collection. The public comment period closed on January 6, 2011. NRCS is hereby re-opening the public comment period for the Notice. Interested parties should refer to Table C in the December 7, 2010, Notice (75 FR 75959) for a summary of the burden for requirements under the Paperwork Reduction Act.

Comments are invited on: (a) Whether the proposed collection of information is necessary for the proper performance of the functions of the agency, including whether the information will have practical utility; (b) the accuracy of the agency's estimate of the burden hours (including hours and cost) of the proposed collection of information; (c) ways to enhance the quality, utility, and clarity of the information to be collected; and (d) ways to minimize the burden of the collection of information on respondents, including through the use of automated collection techniques or other forms of information technology.

Comments submitted in response to this Notice will be summarized and included in the request for Office of Management and Budget approval of this information collection, and will become a matter of public record.

Signed this 3rd day of June 2011, in Washington, DC.
Dave White,
Chief, Natural Resources Conservation Service.

[FR Doc. 2011-14443 Filed 6-9-11; 8:45 am]

BILLING CODE 3410-16-P